DEPARTMENT OF THE INTERIOR

National Park Service

[NPS-WASO-NAGPRA-NPS0026174; PPWOCRADN0-PCU00RP14.R50000]

Notice of Inventory Completion: The University of Oregon Museum of Natural and Cultural History, Eugene, OR

AGENCY: National Park Service, Interior.

ACTION: Notice.

SUMMARY: The University of Oregon Museum of Natural and Cultural History has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the University of Oregon Museum of Natural and Cultural History. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of Oregon Museum of Natural and Cultural History at the address in this notice by October 10, 2018.

ADDRESSES: Dr. Pamela Endzweig, Director of Collections, Museum of Natural and Cultural History, 1224 University of Oregon, Eugene, OR 97403-1224, telephone (541) 346-5120, email endzweig@uoregon.edu.

SUPPLEMENTARY INFORMATION: Notice is here given in accordance with the Native American Graves Protection and Repatriation Act (NAGPRA), 25 U.S.C. 3003, of the completion of an inventory of human remains under the control of the University of Oregon Museum of Natural and Cultural History, Eugene, OR. The human remains were removed from the Tularosa River region, NM.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Oregon Museum of Natural and Cultural History professional staff in consultation with representatives of the Fort Sill Apache Tribe of Oklahoma.

History and Description of the Remains

In 1900, human remains representing, at minimum, nine individuals were removed from the Tularosa River region in New Mexico. The human remains were donated to the museum by a private party in 1946 and accessioned into the museum's collection. The human remains consist of isolated elements from six adult individuals of indeterminate sex (cat. #s 11-202, 11-204, 11-205, 11-206, 11-207, and 11-210), one indeterminate adolescent (cat. #11-203), and two adult females (cat. #11-208, 11-209). Because of their fragmentary nature, it is not impossible that the remains represent fewer than nine individuals. No associated funerary objects are present.

Historical documents, ethnographic sources, and oral history indicate that the Chiricahua Apache have occupied the Tularosa River region since precontact times. Based on presumed archeological context and/or skeletal evidence, the nine individuals represented by the human remains were determined to be of Native American ancestry and Chiricahua Apache. The Chiricahua Apache are represented today by the Fort Sill Apache Tribe of Oklahoma.

Determinations Made by the University of Oregon Museum of Natural and Cultural History

Officials of the University of Oregon Museum of Natural and Cultural History have determined that:

• Pursuant to 25 U.S.C. 3001(9), the human remains described in this notice represent the physical remains of nine individuals of Native American ancestry.

• Pursuant to 25 U.S.C. 3001(2), there is a relationship of shared group identity that can be reasonably traced between the Native American human remains and the Fort Sill Apache Tribe of Oklahoma.

Additional Requestors and Disposition

Lineal descendants or representatives of any Indian Tribe or Native Hawaiian organization not identified in this notice that wish to request transfer of control of these human remains should submit a written request with information in support of the request to Dr. Pamela Endzweig, Director of Collections, Museum of Natural and Cultural History, 1224 University of Oregon, Eugene, OR 97403-1224, telephone (541) 346-5120, email endzweig@uoregon.edu, by October 10, 2018. After that date, if no additional requestors have come forward, transfer of control of the human remains to the Fort Sill Apache Tribe of Oklahoma may proceed.

The University of Oregon Museum of Natural and Cultural History is responsible for notifying the Fort Sill Apache Tribe of Oklahoma that this notice has been published.

Dated: August 3, 2018.
Melanie O'Brien,
Manager, National NAGPRA Program.

[FR Doc. 2018-19524 Filed 9-7-18; 8:45 am]

BILLING CODE 4312-52-P